DEPARTMENT OF ENERGY

Federal Energy Regulatory Commission

[Project No. 10822-013]

Notice of Availability of Environmental Assessment: Town of Canton, Connecticut

In accordance with the National Environmental Policy Act of 1969 and the Federal Energy Regulatory Commission's (Commission) regulations, 18 CFR part 380 (Order No. 486, 52 FR 47897), the Office of Energy Projects has reviewed an application submitted by the Town of Canton, Connecticut (applicant), for the reinstatement, amendment, and transfer of license for the Upper Collinsville Project No. 10822. The project is on the Farmington River near the village of Collinsville, Hartford County, Connecticut. The project does not occupy federal lands.

An environmental assessment (EA) has been prepared as part of staff's review of the proposal. In the application, the applicant proposes to rehabilitate the project, install a Kaplan turbine with a total installed capacity of 1,000 kilowatts, provide upstream and downstream fish and eel passage, and provide additional environmental measures, including water quality monitoring, mussel relocation, and recreation. The applicant requests the Commission to reinstate the license with a new term of 40-50 years. The EA contains Commission staff's analysis of the probable environmental impacts of the proposed action and concludes that approval of the proposal would not constitute a major federal action significantly affecting the quality of the human environment.

The EA is available for review and reproduction at the Commission's Public Reference Room, located at 888 First Street NE, Room 2A, Washington, DC 20426. The EA may also be viewed on the Commission's website at http://www.ferc.gov using the “elibrary” link. Enter the docket number (P-10822) in the docket number field to access the document. For assistance, contact FERC Online Support at FERCOnlineSupport @ferc.gov or toll-free at 1-866-208-3372, or for TTY, (202) 502-865.

You may register online at http://www.ferc.gov/docs-filing/esubscription.asp to be notified via email of new filings and issuances related to this or other pending projects. For assistance, contact FERC Online Support.

Any comments should be filed within 30 days from the issuance date of this notice. All documents may be filed electronically via the internet. See 18 CFR 385.2001(a)(1)(iii) and the instructions on the Commission's website at http://www.ferc.gov/docs-filing/efiling.asp. If unable to be filed electronically, documents may be paper-filed. Paper filings should be mailed to: The Secretary, Federal Energy Regulatory Commission, 888 First Street NE, Washington, DC 20426. The first page of any filing should include docket number P-10822-013. Commenters can submit brief comments up to 6,000 characters, without prior registration, using the eComment system at http://www.ferc.gov/docs-filing/ecomment.asp. You must include your name and contact information at the end of your comments.

Dated: June 18, 2018.
Kimberly D. Bose,
Secretary.

[FR Doc. 2018-13496 Filed 6-22-18; 8:45 am]

BILLING CODE 6717-01-P